SMALL BUSINESS ADMINISTRATION

[Declaration of Disaster #3305]

State of Arizona; Amendment #3

In accordance with information received from the Federal Emergency Management Agency, dated December 12, 2000, the above-numbered Declaration is hereby amended to extend the deadline for filing applications for physical damages as a result of this disaster to January 5, 2001.

All other information remains the same, i.e., the deadline for filing applications for economic injury is July 27, 2001.

(Catalog of Federal Domestic Assistance Program Nos. 59002 and 59008)
Dated: December 19, 2000.
Herbert L. Mitchell,
Acting Associate Administrator for Disaster Assistance.

[FR Doc. 00-33032 Filed 12-27-00; 8:45 am]

BILLING CODE 8025-01-P